DEPARTMENT OF EDUCATION

Application for Grants Under the Student Support Services Program (1894-0001); Extension of Public Comment Period; Correction

AGENCY: Department of Education.

ACTION: Correction notice.

SUMMARY: On September 29, 2014, the U.S. Department of Education published a 30-day comment period notice in the Federal Register (page 58338, Column 1) seeking public comment for an information collection entitled “Application for Grants Under the Student Support Services Program (1894-0001), ” ED-2014-ICCD-0137, OMB# 1840-0017. The comment period for this information collection request has been extended to November 20, 2014 due to the public's inability to access the application at the beginning of the comment period. This correction is to include the revised application and we extend the public comment period to offer the opportunity to comment on the application.

The Acting Director, Information Collection Clearance Division, Privacy, Information and Records Management Services, Office of Management, hereby issues a correction notice as required by the Paperwork Reduction Act of 1995.

Dated: October 15, 2014.
Tomakie Washington,
Acting Director, Information Collection Clearance Division, Privacy, Information and Records Management Services, Office of Management.

[FR Doc. 2014-24934 Filed 10-20-14; 8:45 am]

BILLING CODE 4000-01-P